DEPARTMENT OF THE TREASURY

Submission for OMB Review; Comment Request

September 6, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 12, 2001 to be assured of consideration.

Internal Revenue Service

OMB Number: 1545-0128.

Form Number: IRS Form 1120-L.

Type of Review: Revision.

Title: U.S. Life Insurance Company Income Tax Return.

Description: Life Insurance companies are required to file an annual return of income and compute and pay the tax due. The data is used to insure that companies have correctly reported taxable income and paid the correct tax.

Respondents: Business or other for-profit.

Estimated Number of Respondents/Recordkeepers: 2,440.

Estimated Burden Hours Per Respondent/Recordkeeper:

Recordkeeping—83 hr., 27 min.

Learning about the law or the form—27 hr., 57 min.

Preparing the form—48 hr., 13 min.

Copying, assembling, and sending the form to the IRS—5 hr., 5 min.

Frequency of Response: Annually.

Estimated Total Reporting/Recordkeeping Burden: 401,966 hours.

OMB Number: 1545-1343.

Regulation Project Number: PS-100-88 Final.

Type of Review: Extension.

Title: Valuation Tables.

Description: The regulations require individuals or fiduciaries to report information on Forms 706 and 709 in connection with the valuation of an annuity, an interest for life or a term of years, or a remainder or reversionary interest.

Respondents: Individuals or households.

Estimated Number of Respondents: 6,000.

Estimated Burden Hours Per Respondent: 45 minutes.

Frequency of Response: On occasion.

Estimated Total Reporting Burden: 4,500 hours.

OMB Number: 1545-1361.

Regulation Project Number: PS-89-91.

Type of Review: Extension.

Title: Exports of Chemicals That Deplete the Ozone Layer; Special Rules for Certain Medical Uses of Chemicals That Deplete the Ozone Layer.

Description: Section 4681 imposes a tax on ozone-depleting chemicals sold or used by a manufacturer or importer thereof. This regulation provides reporting and recordkeeping rules.

Respondents: Business or other for-profit.

Estimated Number of Respondents/Recordkeepers: 1,305.

Estimated Burden Hours Per Respondent/Recordkeeper: 12 minutes.

Frequency of Response: On occasion.

Estimated Total Reporting/Recordkeeping Burden: 201 hours.

OMB Number: 1545-1362.

Form Number: IRS Forms 8835.

Type of Review: Extension.

Title: Renewable Electricity Production Credit.

Description: Filers claiming the general business credit for electricity produced from certain renewable resources under code section 38 and 45 must file 8835.

Respondents: Business or other for-profit, Individuals or households.

Estimated Number of Respondents/Recordkeepers: 70.

Estimated Burden Hours Per Respondent/Recordkeeper:

Recordkeeping—11 hr., 14 min.

Learning about the law or the form—24 min.

Preparing and sending the form to the IRS—35 min.

Frequency of Response: On occasion, Annually.

Estimated Total Reporting/Recordkeeping Burden: 857 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-22861 Filed 9-11-01; 8:45 am]

BILLING CODE 4830-01-P